DEPARTMENT OF THE INTERIOR

Bureau of Land Management

[UT-10000-1610-00]

Zion National Park; Availability of Final General Management Plan and Final Environmental Impact Statement

AGENCY: Bureau of Land Management, Interior.

ACTION: Notice of availability.

SUMMARY: In accordance with the National Parks and Recreation Act of 1978; section 102 of the National Environmental Policy Act of 1969 (NEPA); section 202 of the Federal Land Policy and Management Act of 1976 (FLPMA) and 43 CFR part 1610, the Final General Management Plan (FGMP) and Final Environmental Impact Statement (FEIS) for Zion National Park has been prepared. The FGMP/FEIS incorporates a land use plan amendment for BLM's St. George Field Office (formerly called the Dixie Resource Area) Resource Management Plan (RMP), approved March 1999, prepared under a joint planning effort with Zion National Park. This notice announces the availability of the FGMP/FEIS and describes the protest process for the proposed plan amendment to the BLM RMP.

DATES: Those portions of the FGMP/FEIS that concern wild and scenic rivers recommendations on public lands administered by BLM may be protested for a 30 day period to the Director of BLM. The protest period will commence with the date of publication of the Notice of Availability. Protests must be submitted to the Director of the Bureau of Land Management on or before June 21, 2001.

Only those persons or organizations that participated in the scoping or comment periods during the planning process for the Draft Zion General Management Plan/Environmental Impact Statement leading to this Final General Management Plan/ Final Environmental Impact Statement may protest. If BLM's administrative records do not indicate standing in this planning process, any protest will be dismissed without further review. A protesting party may only raise those issues that he/she submitted for the record during the planning process. The period for filing a protest begins with publication of BLM's Notice of Availability for the FGMP/FEIS. The protest should include the specific information described in Appendix J of the FGMP. To be considered timely, a protest must be postmarked no later than the last day of the protest period. At the end of the 30-day protest period, and after the Governor's 60-day consistency review, the BLM's proposed land use plan amendment, excluding any portions under protest, will become final. Approval will be withheld on any portion of the BLM's land use plan amendment under protest until final action has been completed on such protest.

BLM will prepare its own Record of Decision regarding stream segments and adjacent public lands that are managed by BLM. Such decision will constitute a plan amendment to the approved St. George Field Office RMP.

ADDRESSES: Protests must be in writing to the Director, Bureau of Land Management, Attn: Brenda Williams (LS-1050), Protests Coordinator, 1849 C Street, NW., Washington, DC 20240. Overnight Mail Address: Director, Bureau of Land Management; 1620 L Street NW., Suite 1075, Washington, DC 20036; Telephone: (202) 452-5110.

FOR FURTHER INFORMATION CONTACT: Dawna Ferris-Rowley, Assistant Field Office Manager, St. George Field Office, Telephone: (435) 688-3216. Public reading copies of the FGMP/FEIS will be available for review at the following locations: Office of the Superintendent, Zion National Park, Springdale, UT 84767-1099; Telephone: (435) 772-0211; Planning and Environmental Quality, Intermountain Support Office-Denver, National Park Service, PO Box 25287, Telephone: (303) 969-2377; Office of Public Affairs, National Park Service, Department of the Interior, 18th and C Streets NW., Washington, DC 20240, Telephone: (202) 208-6843. The FGMP/FEIS is also available for review on the National Park Service's Internet site at www.nps.gov/planning.

SUPPLEMENTARY INFORMATION: On February 26, 2001, the National Park Service (NPS) released the FGMP/FEIS to the public. A Notice of Availability for the FGMP/FEIS was published by the Environmental Protection Agency in the Federal Register on March 23, 2001. The Draft General Management Plan/Draft EIS was released for public review and comments in November, 1999 and was followed by a 90 day comment period. Since the release of the Draft GMP/DEIS, public meetings, workshops, mailings and briefings have been conducted to solicit comments, new information, and ideas for the FGMP/FEIS.

The FGMP/FEIS contains recommendations concerning the eligibility, classification, and suitability of rivers, their tributaries, and adjacent lands for inclusion in the National Wild and Scenic Rivers System, under section 5(d)(1) of the Wild and Scenic Rivers Act of 1968 (as amended). These were evaluated through a cooperative NPS-BLM study, authorized under two Memoranda of Understanding (MOU) concerning wild and scenic river studies in Utah. The first MOU was signed in 1997 by the Governor of Utah, the BLM State Director, the Regional Forester of the USDA Forest Service, the Regional Director of the NPS, and affected local agencies. These entities agreed to cooperatively conduct wild and scenic river studies and to make efforts to reach consensus on the Utah wild and scenic river recommendations to Congress.

In 1998, a second MOU was signed between NPS and BLM for the cooperative study of river segments within Zion National Park and on public lands contiguous to the boundaries of the Park. The recommendations from this NPS-BLM study of river segments on BLM-administered public lands constitute an amendment to the St. George Field Office RMP (approved in 1999).

The following six river segments (totaling 2.3 miles) on BLM-administered public lands were evaluated as eligible, classified as wild, and recommended as suitable for inclusion in the national system: Willis Creek (T. 38 S., R. 11 W., Sec. 27: SWSW-40 acres); Beartrap Canyon (T. 39 S., R. 11 W., Sec. 3: SWNW-40 acres); Goose Creek (T. 39 S., R. 10 W., Sec. 31 NESE, S2SE-120 acres); Shunes Creek, Segment A (T. 42 S, R. 91/2 W., Sec. 17 N2 (portions thereof); Sec. 18 N2; T. 42 S., R. 10 W.; Sec. 1: N2N2 (portions thereof—240 acres); the head of the Middle Fork of Taylor Creek (T. 38 S., R. 11 W., Sec. 30: SWNW-40 acres); and the head of Kolob Creek (T. 39 S., R. 10 W., Sec. 30-40 acres). Although these same river segments were initially found not eligible for further study when considered individually in BLM's original inventory (except for Shunes Creek, Segment B from the dry fall to the Washington County line), they have been found to be both eligible and suitable, when considered in conjunction with contiguous segments in the Park. Approved land use decisions in BLM's St. George RMP will be amended as follows:

Willis Creek Segment: Closed to Motorized and Non-Motorized Off-Highway Vehicle Use; Closed to Mineral Materials; Category 3 for Fluid Minerals; Plan of Operation required for Locatable Minerals.

Kolob Narrows Segment: Closed to Motorized and Non-Motorized Off-Highway Vehicle Use; Category 3 for Fluid Minerals; Plan of Operation required for Locatable Minerals.

Goose Creek Segment: Closed to Motorized and Non-Motorized Off-Highway Vehicle Use; Category 3 for Fluid Minerals; Plan of Operation required for Locatable Minerals.

Robert A. Bennett,
Acting Utah State Director.

[FR Doc. 01-12801 Filed 5-21-01; 8:45 am]

BILLING CODE 1610-DQ-$$